ENVIRONMENTAL PROTECTION AGENCY

[EPA-HQ-OPP-2011-0038; FRL-9339-2]

Environmental Protection Agency, Department of Health and Human Services and Department of Agriculture; Memorandum of Understanding Regarding Genetically Engineered Plants; Clarification and Correction

AGENCY: Environmental Protection Agency (EPA).

ACTION: Notice; clarification and correction.

SUMMARY: EPA issued a notice in the Federal Register of February 1, 2012, concerning a Memorandum of Understanding between the Environmental Protection Agency, Department of Health and Human Services and the Department of Agriculture regarding genetically engineered plants. This document is being issued to clarify and correct the notice announcing the Memorandum of Understanding.

FOR FURTHER INFORMATION CONTACT: Mario Steadman, Information Technology and Resources Management Division (7502P), Office of Pesticide Programs, Environmental Protection Agency, 1200 Pennsylvania Ave. NW., Washington, DC 20460-0001; telephone number: (703) 305-8338, steadman.mario@epa.gov.

SUPPLEMENTARY INFORMATION:

I. General Information

A. Does this action apply to me?

The Agency included in the notice a list of those who may be potentially affected by this action. If you have questions regarding the applicability of this action to a particular entity, consult the person listed under FOR FURTHER INFORMATION CONTACT.

B. How can I get copies of this document and other related information?

EPA has established a docket for this action under docket identification (ID) number EPA-HQ-OPP-2011-0038. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What does this correction do?

In the SUMMARY of the notice published on February 1, 2012, (77 FR 5012) (FRL-9328-7), announcing the Memorandum of Understanding, it was stated that the Department of Health and Human Services' Centers for Disease Control and Prevention and the Food and Drug Administration would perform work for EPA's Office of Pesticide Programs. However, under the Memorandum of Understanding neither the Centers for Disease Control and Prevention nor the Food and Drug Administration will perform any work for OPP; therefore EPA is correcting the SUMMARY to the notice announcing the Memorandum of Understanding.

FR Doc. 2012-2198, published in the Federal Register of February 1, 2012, at page 5012 is corrected as follows:

On page 5012, in the third column, in EPA document “EPA-HQ-OPP-2011-0038,” the SUMMARY for the Memorandum of Understanding is corrected to read: SUMMARY: This notice announces that pesticide-related information submitted to EPA's Office of Pesticide Programs (OPP) pursuant to the Federal Insecticide, Fungicide, and Rodenticide Act (FIFRA) and the Federal Food, Drug, and Cosmetic Act (FFDCA), including information that may have been claimed as Confidential Business Information (CBI) by submitters in accordance with 40 CFR 2.309(c) and 2.308(h)(2) will be shared with the Department of Health and Human Services (HHS) and the U.S. Department of Agriculture (USDA). The Memorandum of Understanding (MOU) will support and encourage cooperation and communication between USDA, HHS' Food and Drug Administration and Centers for Disease Control and Prevention, and EPA in the regulatory oversight over genetically engineered plants and the foods derived from such plants. Under the MOU, USDA's Office of Animal and Plant Health Inspection Service/Biotechnology Regulatory Services (APHIS/BRS) and EPA agree to share with each other information about genetically engineered plants and the foods derived from such plants, including non-public information exempt from public disclosure usually referred to as “confidential business information” and/or “trade secrets.”

List of Subjects

Environmental protection, Confidential business information, Interagency agreements, Memorandum of Understanding, Pesticides and pests.

Dated: March 8, 2012.
Michael Hardy,
Acting Director, Information Technology and Resources Management Division, Office of Pesticide Programs.

[FR Doc. 2012-6926 Filed 3-21-12; 8:45 am]

BILLING CODE 6560-50-P